DEPARTMENT OF LABOR

Employment and Training Administration

[NAFTA-02789]

The Trane Company; Tyler, TX; Amended Certification Regarding Eligibility To Apply for NAFTA-Transitional Adjustment Assistance

In accordance with Section 250(A), Subchapter D, Chapter 2, Title II, of the Trade Act of 1974 (19 U.S.C. 2273), the Department of Labor issued a Certification for NAFTA Transitional Adjustment Assistance on January 19, 1999, applicable to workers of The Trane Company, a division of American Standard, Incorporated, Tyler, Texas. The notice was published in the Federal Register on January 29, 1999 (64 FR 4713).

At the request of the State agency, the Department reviewed the certification for workers of the subject firm. New information shows that some employees of The Trane Company, a division of American Standard, Incorporated, Tyler, Texas were leased from Remedy Intelligent Staffing, Incorporated, Tyler, Texas to produce single cylinder reciprocating compressors for air conditioning units at the Tyler, Texas facility. Information also shows that workers separated from employment at the subject firm had their wages reported under a separate unemployment insurance (UI) tax account for Remedy Intelligent Staffing, Incorporated.

Based on these findings, the Department is amending the certification to include workers of Remedy Intelligent Staffing, Incorporated, Tyler, Texas leased to The Trane Company, a division of American Standard, Incorporated, Tyler, Texas.

The intent of the Department's certification is to include all workers of The Trane Company, a division of American Standard, Incorporated who were adversely affected by a shift of production to Mexico.

The amended notice applicable to NAFTA-02789 is hereby issued as follows:

“All workers of The Trane Company, a division of American Standard, Incorporated, Tyler, Texas and leased workers of Remedy Intelligent Staffing, Incorporated, Tyler, Texas who were engaged in employment related to the production of single cylinder reciprocating compressors for air conditioning units for The Trane Company, a division of American Standard, Incorporated, Tyler, Texas who became totally or partially separated from employment on or after December 1, 1997 through January 19, 2001 are eligible to apply for NAFTA-TAA under Section 250 of the Trade Act of 1974.”

Signed at Washington, DC this 17th day of January, 2001.
Linda G. Poole,
Certifying Officer, Division of Trade Adjustment Assistance.

[FR Doc. 01-3286 Filed 2-7-01; 8:45 am]

BILLING CODE 4510-30-M